DEPARTMENT OF TRANSPORTATION

Federal Aviation Administration

14 CFR Part 71

[Docket No. FAA-2016-8839; Airspace Docket No. 16-AGL-19]

Proposed Amendment of Class E Airspace for the Following Ohio Towns; Findlay, OH; Ashland, OH; Celina, OH; Circleville, OH; Columbus, OH; Defiance, OH; Hamilton, OH; Lima, OH; and London, OH

AGENCY: Federal Aviation Administration (FAA), DOT.

ACTION: Notice of proposed rulemaking (NPRM).

SUMMARY: This action proposes to modify Class E airspace designated as a surface area at Findlay Airport, Findlay, OH; and Class E airspace extending upward from 700 feet above the surface at Ashland County Airport, Ashland, OH; Lakefield Airport, Celina, OH; Pickaway County Memorial Airport, Circleville, OH; Ross County Airport, Chillicothe, OH; Fairfield County Airport, Lancaster, OH; Defiance Memorial Airport, Defiance, OH; Findlay Airport; Bluffton Airport, Findlay, OH; Butler County Airport-Hogan Field, Hamilton, OH; Lima Allen County Airport, Lima, OH; and Madison County Airport, London, OH. Decommissioning of non-directional radio beacon (NDB), cancellation of NDB approaches, and implementation of area navigation (RNAV) procedures have made this action necessary for the safety and management of Instrument Flight Rules (IFR) operations at these airports. Additionally, the geographic coordinates at Port Columbus International Airport; Findlay Airport; Ashland County Airport; Samaritan Hospital Heliport, Ashland, OH; Lakefield Airport; Ross County Airport; Defiance Regional Medical Center Heliport, Defiance, OH; Bluffton Airport; Lima Allen County Airport; and St. Rita's Medical Center Heliport, Lima, OH, would be adjusted to coincide with the FAA's aeronautical database. Also, the names of Samaritan Hospital Heliport (formerly Samaritian Regional Health System), Defiance Regional Medical Center Heliport (formerly Defiance Hospital), and Butler County Regional Airport-Hogan Field (formerly Butler County Regional Airport) would be updated to coincide with the FAA's aeronautical database.

DATES: Comments must be received on or before November 14, 2016.

ADDRESSES: Send comments on this proposal to the U.S. Department of Transportation, Docket Operations, West Building Ground Floor, Room W12-140, 1200 New Jersey Avenue SE., Washington, DC 20590; telephone (202) 366-9826, or 1-800-647-5527. You must identify FAA Docket No. FAA-2016-8839; Airspace Docket No. 16-AGL-19, at the beginning of your comments. You may also submit comments through the Internet at http://www.regulations.gov. You may review the public docket containing the proposal, any comments received, and any final disposition in person in the Dockets Office between 9:00 a.m. and 5:00 p.m., Monday through Friday, except Federal holidays.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would amend Class E airspace designated as a surface area at Findlay Airport, Findlay, OH; and Class E airspace extending upward from 700 feet above the surface at Ashland County Airport, Ashland, OH; Lakefield Airport, Celina, OH; Pickaway County Memorial Airport, Circleville, OH; Ross County Airport, Chillicothe, OH; Fairfield County Airport, Lancaster, OH; Defiance Memorial Airport, Defiance, OH; Findlay Airport; Bluffton Airport, Findlay, OH; Butler County Airport-Hogan Field, Hamilton, OH; Lima Allen County Airport, Lima, OH; and Madison County Airport, London, OH.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-8839/Airspace Docket No. 16-AGL-19.” The postcard will be date/time stamped and returned to the commenter.

Availability of NPRMs

An electronic copy of this document may be downloaded through the Internet at http://www.regulations.gov. Recently published rulemaking documents can also be accessed through the FAA's Web page at http://www.regulations.gov.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is proposing an amendment to Title 14 Code of Federal Regulations (14 CFR) Part 71 by modifying:

Class E airspace designated as a surface area at Findlay Airport, Findlay, OH, by removing the segments extending from the 4.3-mile radius 7.4 miles south and northeast of the airport, and updating the geographic coordinates of the airport to coincide with the FAA's aeronautical database;

And Class E airspace extending upward from 700 feet above the surface:

By updating the geographic coordinates of Ashland County Airport and noting the name change of Samaritan Hospital Heliport (formerly Samaritian Regional Health System), Ashland, OH, to coincide with the FAA's aeronautical database;

Within a 6.4-mile radius (reduced from a 7-mile radius) of Lakefield Airport, Celina, OH, and updating the geographic coordinates of the airport to coincide with the FAA's aeronautical database;

Within a 6.4-mile radius (reduced from a 10-mile radius) of Pickaway County Memorial Airport, Circleville, OH, with an extension from the 6.4-mile radius to 10.5 miles north of the airport, and within a 6.5-mile radius (reduced from a 9.1-mile radius) of Ross County Airport, Chillicothe, OH, and updating the geographic coordinates of the Ross County Airport to coincide with the FAA's aeronautical database;

By updating the geographic coordinates of Port Columbus International Airport, Columbus, OH, removing the Don Scott NDB from the boundary description, and within a 7.0-mile radius (increased from a 6.4-mile radius) of Fairfield County Airport, Lancaster, OH; Within a 6.4-mile radius (reduced from a 7-mile radius) of Defiance Memorial Airport, Defiance, OH, and updating the geographic coordinates and name of Defiance Regional Medical Center Heliport (formerly Defiance Hospital), Defiance, OH, to coincide with the FAA's aeronautical database;

Within a 6.8-mile radius (reduced from a 7.4-mile radius) of Findlay Airport, Findlay, OH, and within a 7.2-mile radius (increased from a 6.6-mile radius) of Bluffton Airport, Findlay, OH, and updating the geographic coordinates of these airports to coincide with the FAA's aeronautical database;

Within a 6.9-mile radius (increased from a 6.6-mile radius) of Butler County Regional Airport-Hogan Field, Hamilton, OH, and updating the name of the airport (formerly Butler County Regional Airport) to coincide with the FAA's aeronautical database;

By removing the Allen County VOR from the boundary description of Lima Allen County Airport, Lima, OH, and updating the name of St. Rita's Medical Center Heliport (formerly Saint Rita's Medical Center), Lima, OH, and updating the geographic and point in space coordinates of these airports to coincide with the FAA's aeronautical database;

And by removing the segment extending from the 6.4-mile radius 7.4 miles west of Madison County Airport, London, OH.

Airspace reconfiguration is necessary due to the decommissioning of NDBs, cancellation of NDB approaches, and implementation of RNAV procedures at these airports. Controlled airspace is necessary for the safety and management of standard instrument approach procedures for IFR operations at the airports.

Class E airspace designations are published in paragraph 6002 and 6005, respectively, of FAA Order 7400.11A, dated August 3, 2016, and effective September 15, 2016, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

AGL OH E2 Findlay, OH [Amended]

Findlay Airport, OH

(Lat. 41°00′43″ N., long. 83°40′07″ W.)

Lutz Airport

(Lat. 40°57′42″ N., long. 83°35′43″ W.)

Within a 4.3-mile radius of the Findlay Airport excluding that portion within a 1-mile radius of the Lutz Airport.

* * * * *

Paragraph 6005 Class E Airspace Areas Extending Upward From 700 Feet or More Above the Surface of the Earth.

* * * * *

AGL OH E5 Ashland, OH [Amended]

Ashland County Airport, OH

(Lat. 40°54′11″ N., long. 82°15′20″ W.)

Samaritan Hospital Heliport, OH, Point in Space Coordinates

(Lat. 40°51′34″ N., long. 82°18′30″ W.)

That airspace extending upward from 700 feet above the surface within a 6.3-mile radius of Ashland County Airport, and within a 6-mile radius of the Point in Space serving Samaritan Hospital Heliport, excluding that airspace which lies within the Mansfield, OH, Class E airspace area.

* * * * *

AGL OH E5 Celina, OH [Amended]

Lakefield Airport, OH

(Lat. 40°29′03″ N., long. 84°33′30″ W.)

That airspace extending upward from 700 feet above the surface within a 6.4-mile radius of Lakefield Airport, excluding that airspace within the Wapakoneta, OH, Class E airspace area.

AGL OH E5 Circleville, OH [Amended]

Circleville, Pickaway County Memorial Airport, OH

(Lat. 39°30′58″ N., long. 82°58′56″ W.)

Chillicothe, Ross County Airport, OH

(Lat. 39°26′26″ N., long. 83°01′23″ W.)

Yellow Bud VOR

(Lat. 39°31′2637″ N., long. 82°58′41″ W.)

That airspace extending upward from 700 feet above the surface within a 6.4-mile radius of Pickaway County Memorial Airport, and within 2.9 miles either side of the 345° radial from the Yellow Bud VOR extending from the 6.4-mile radius to 10.5 miles north of the airport, and within a 6.5-mile radius of the Ross County Airport, excluding that airspace within the Waverly, OH, Class E Airspace area.

* * * * *

AGL OH E5 Columbus, OH [Amended]

Columbus, Port Columbus International Airport, OH

(Lat. 39°59′49″ N., long. 82°53′32″ W.)

Columbus, Rickenbacker International Airport, OH

(Lat. 39°48′50″ N., long. 82°55′40″ W.)

Columbus, Ohio State University Airport, OH

(Lat. 40°04′47″ N., long. 83°04′23″ W.)

Columbus, Bolton Field Airport, OH

(Lat. 39°54′04″ N., long. 83°08′13″ W.)

Columbus, Darby Dan Airport, OH

(Lat. 39°56′31″ N., long. 83°12′18″ W.)

Lancaster, Fairfield County Airport, OH

(Lat. 39°45′20″ N., long. 82°39′26″ W.)

That airspace extending upward from 700 feet above the surface within a 7-mile radius of Port Columbus International Airport, and within 3.3 miles either side of the 094° bearing from Port Columbus International Airport extending from the 7-mile radius to 12.1 miles east of the airport, and within a 7-mile radius of Rickenbacker International Airport, and within 4 miles either side of the 045° bearing from Rickenbacker International Airport extending from the 7-mile radius to 12.5 miles northeast of the airport, and within a 6.5-mile radius of Ohio State University Airport, and within a 7.4-mile radius of Bolton Field Airport, and within a 7-mile radius of Fairfield County Airport, and within a 6.5-mile radius of Darby Dan Airport, excluding that airspace within the London, OH, Class E airspace area.

* * * * *

AGL OH E5 Defiance, OH [Amended]

Defiance Memorial Airport, OH

(Lat. 41°20′15″ N., long. 84°25′44″ W.)

Defiance Regional Medical Center Heliport, OH, Point in Space Coordinates

(Lat. 41°17′53″ N., long. 84°22′40″ W.)

That airspace extending upward from 700 feet above the surface within a 6.4-mile radius of Defiance Memorial Airport, and within a 6-mile radius of the Point in Space serving Defiance Regional Medical Center Heliport.

* * * * *

AGL OH E5 Findlay, OH [Amended]

Findlay Airport, OH

(Lat. 41°00′43″ N., long. 83°40′07″ W.)

Bluffton Airport, OH

(Lat. 40°53′08″ N., long. 83°52′07″ W.)

That airspace extending upward from 700 feet above the surface within a 6.8-mile radius of Findlay Airport and within a 7.2-mile radius of Bluffton Airport.

* * * * *

AGL OH E5 Hamilton, OH [Amended]

Butler County Regional Airport-Hogan Field, OH

(Lat. 39°21′50” N., long. 84°31′19” W.)

That airspace extending upward from 700 feet above the surface within a 6.9-mile radius of Butler County Regional Airport-Hogan Field.

* * * * *

AGL OH E5 Lima, OH [Amended]

Lima Allen County Airport, OH

(Lat. 40°42′27″ N., long. 84°01′37″ W.)

St. Rita's Medical Center Heliport, OH, Point in Space Coordinates

(Lat. 40°44′26″ N., long. 84°07′06″ W.)

That airspace extending upward from 700 feet above the surface within a 6.6-mile radius of Lima Allen County Airport, and within a 6-mile radius of the Point in Space serving St. Rita's Medical Center Heliport, excluding the airspace within the Findlay, OH, Class E airspace area.

AGL OH E5 London, OH [Amended]

Madison County Airport, OH

(Lat. 39°55′58″ N., long. 83°27′43″ W.)

That airspace extending upward from 700 feet above the surface within a 6.4-mile radius of Madison County Airport.

Issued in Fort Worth, Texas, on September 19, 2016.
Walter Tweedy,
Acting Manager, Operations Support Group, ATO Central Service Center.

[FR Doc. 2016-23113 Filed 9-26-16; 8:45 am]

BILLING CODE 4910-13-P